DEPARTMENT OF TRANSPORTATION

Federal Aviation Administration

[Docket No. 2019-0898]

Agency Information Collection Activities: Requests for Comments; Clearance of a Renewed Approval of Information Collection: Representatives of the Administrator, 14 CFR Part 183

AGENCY: Federal Aviation Administration (FAA), DOT.

ACTION: Correction: Notice and request for comments.

SUMMARY: In accordance with the Paperwork Reduction Act of 1995, FAA invites public comments about our intention to request the Office of Management and Budget (OMB) approval to renew an information collection. The Federal Register Notice with a 60-day comment period soliciting comments on the following collection of information was published on November 7, 2019. The collection involves the voluntary submission of application information for persons applying to become designated representatives of the FAA Administrator under 14 CFR part 183. The information to be collected will be used by the FAA to screen and select designees who will act as representatives of the FAA Administrator in performing various certification and examination functions under Title VI of the Federal Aviation Act. This notice corrects information in the 60-day notice stating the collection applies only to DER applicants using FAA Form 8110-4. The collection applies to all applicants for designation under 14 CFR part 183 and includes four (4) forms in total. Additionally, the FAA is introducing the Designee Management System (DMS), a web-based application to provide for electronic information submission by applicants.

DATES: Written comments should be submitted by March 4, 2020.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Tanya Glines by email at: Tanya.glines@faa.gov. phone: 801-257-5085.

SUPPLEMENTARY INFORMATION: OMB Control Number: 2120-0033.

Title: Representatives of the Administrator, 14 CFR part 183.

Form Numbers: FAA Forms 8110-14, 8110-28, 8710-6, 8710-10.

Type of Review: Renewal of an information collection

Background: The Federal Register Notice with a 60-day comment period soliciting comments on the following collection of information was published on November 7, 2019 (84 FR 60136).

Title 49, United States Code, Section 44702 states that the Secretary of Transportation may, subject to such regulations as he may prescribe, delegate to any properly qualified private person, the examination and testing necessary for the issuance of certificates under Title VI of the Federal Aviation Act. Title 14, Code of Federal Regulations, part 183 (14 CFR part 183), Representatives of the Administrator, implements the provisions of section 314 of the Federal Aviation Act. 14 CFR part 183 (part 183) describes the requirements for delegating to any properly qualified private person, the examination and testing necessary for the issuance of airmen certificates.

Response to this collection of information is required to obtain a benefit, specifically, to obtain a FAA designation as a representative of the FAA Administrator. Designee applicants come from private industry. They are experts in the aviation and medical communities who are familiar with the regulations and certification requirements necessary to issue an FAA certificate. Only highly experienced aviation professionals are expected to respond to the collection. The collection is for reporting of an individual's eligibility and qualifications and occurs on an as needed basis for initial applicants. However, if an individual is not selected as a designee, their application must be updated whenever information changes (as needed) and at least every 12 calendar months (annually).

The information is collected using the Designee Management System (DMS) or using a paper application form, depending on the type of designation being applied for.

Respondents: Persons applying to become a Designated Representative of the FAA Administrator. (2143).

Frequency: As needed/annually.

Estimated Average Burden per Response: 1.5 hours.

Estimated Total Annual Burden: 5,949 hours.

Issued in Washington, DC, on January 28, 2020.
Tanya A. Glines,
Aviation Safety Inspector, Safety Standards, General Aviation Maintenance Branch (AFS-350).

[FR Doc. 2020-01926 Filed 1-31-20; 8:45 am]

BILLING CODE 4910-13-P